ENVIRONMENTAL PROTECTION AGENCY

[EPA-HQ-OECA-2012-0679; FRL-9952-96-OEI]

Information Collection Request Submitted to OMB for Review and Approval; Comment Request; NESHAP for Petroleum Refineries: Catalytic Cracking Units, Catalytic Reforming Units, and Sulfur Recovery Units (Renewal)

AGENCY: Environmental Protection Agency (EPA).

ACTION: Notice.

SUMMARY: The Environmental Protection Agency has submitted an information collection request (ICR), “NESHAP for Petroleum Refineries: Catalytic Cracking Units, Catalytic Reforming Units, and Sulfur Recovery Units (40 CFR part 63, subpart UUU) (Renewal)” (EPA ICR No. 1844.08, OMB Control No. 2060-0554), to the Office of Management and Budget (OMB) for review and approval in accordance with the Paperwork Reduction Act (44 U.S.C. 3501 et seq.). This is a proposed extension of the ICR, which is currently approved through October 31, 2016. Public comments were requested previously via the Federal Register (81 FR 26546) on May 3, 2016 during a 60-day comment period. This notice allows for an additional 30 days for public comments. A fuller description of the ICR is given below, including its estimated burden and cost to the public. An Agency may neither conduct nor sponsor, and a person is not required to respond to, a collection of information unless it displays a currently valid OMB control number.

DATES: Additional comments may be submitted on or before November 23, 2016.

ADDRESSES: Submit your comments, referencing Docket ID Number EPA-HQ-OECA-2012-0679, to: (1) EPA online using www.regulations.gov (our preferred method), or by email to docket.oeca@epa.gov, or by mail to: EPA Docket Center, Environmental Protection Agency, Mail Code 28221T, 1200 Pennsylvania Ave. NW., Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW., Washington, DC 20460; telephone number: (202) 564-2970; fax number: (202) 564-0050; email address: yellin.patrick@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit: http://www.epa.gov/dockets.

Abstract: Owners and operators of three types of affected units at major source petroleum refineries (fluid catalytic cracking units for catalyst regeneration, catalytic reforming units, and sulfur recovery units) are required to comply with reporting and record keeping requirements for the General Provisions (40 CFR part 63, subpart A), as well as the applicable standards in 40 CFR part 63, subpart UUU. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Affected units at major source petroleum refineries: Fluid catalytic cracking units for catalyst regeneration, catalytic reforming units, and sulfur recovery units.

Respondent's obligation to respond: Mandatory (40 CFR part 63 Subparts UUU).

Estimated number of respondents: 142 (total).

Frequency of response: Initially, occasionally and semiannually.

Total estimated burden: 20,200 hours (per year). Burden is defined at 5 CFR 1320.3(b).

Total estimated cost: $10,900,000 (per year), which includes $8,820,000 in either annualized capital/startup or operation & maintenance costs.

Changes in the Estimates: There is an increase in the total estimated burden as currently identified in the OMB Inventory of Approved Burdens. The increase in burden from the most- recently approved ICR is primarily due to the December 2015 final rule amendments. The changes to 40 CFR part 63 Subpart UUU caused by the rule amendment are summarized in section 1(b). The specific changes that impacted this ICR are (1) the elimination of the SSM exemption, (2) the requirement for FCCUs to do periodic PM performance testing and a one-time HCN performance test, and (3) revisions to requirements for catalytic reforming catalyst regeneration when using active purging. This ICR accounts for the burden presented previously in both EPA ICR Number 1844.06 (existing rule) and EPA ICR Number 1844.07 (2015 amendment).

The elimination of the SSM exemption did not lead to any changes to the time or cost burden estimates, or to the number of responses, because the previous assumption was that all existing respondents have already complied with the initial requirements to prepare and submit the SSM plan, thus the time and cost estimate was already zero. In this supporting statement, we have added a footnote in Table 1 to explain that the SSM exemption has been eliminated and that the burden item can be removed out of future ICR supporting statements.

We have accounted for the additional labor and O&M costs to notify, perform, and prepare and submit the reports for the PM and HCN performance tests for FCCUs. We have also accounted for the additional labor for owners or operators of facilities with FCCUs to update their operating, maintenance, and monitoring plan, to account for the new requirements.

We have also accounted for the additional labor and responses associated with training personnel and performing an engineering assessment for evaluation of the new catalytic reforming unit operational requirements.

Furthermore, we have added a new burden item for performing relative accuracy test audits on units using CEMs, based on industry comments received from API (further discussed in Section 3(c)). This contributed to an increase in the total labor burden, cost and number of annual responses.

In addition, the total number of respondents was revised from 123 to 142, which contributed to the increase in burden and cost.

Courtney Kerwin,
Director, Regulatory Support Division.

[FR Doc. 2016-25628 Filed 10-21-16; 8:45 am]

BILLING CODE 6560-50-P